DEPARTMENT OF EDUCATION

Privacy Act of 1974; System of Records

AGENCY: Office of Planning, Evaluation and Policy Development, Department of Education.

ACTION: Notice of deletions of existing systems of records.

SUMMARY: In accordance with the Privacy Act of 1974, as amended (Privacy Act) (5 U.S.C. 552a), the Department of Education (Department) deletes two systems of records from its existing inventory of systems of records subject to the Privacy Act.

DATES: These deletions are effective June 12, 2012.

FOR FURTHER INFORMATION CONTACT: Carmel Martin, Assistant Secretary for Planning, Evaluation and Policy Development, U.S. Department of Education, 400 Maryland Avenue SW., Room 5E313, Washington, DC 20202-4500. Telephone: (202) 401-3676.

If you use a telecommunications device for the deaf (TDD) or a text telephone (TTY), call the Federal Relay Service (FRS), toll free, at 1-800-877-8339.

Individuals with disabilities may obtain this document in an accessible format (e.g., braille, large print, audiotape, or compact disc) on request to the contact person listed in this section.

SUPPLEMENTARY INFORMATION: The Department deletes two systems of records from its inventory of record systems subject to the Privacy Act. The deletions are not within the purview of subsection (r) of the Privacy Act, which requires submission of a report on a new or altered system of records.

These systems of records are no longer needed because the studies have been completed. In addition, the records are no longer collected or maintained by the Department, and each system of records has been deleted by the contractor. Therefore, the following systems of records are deleted:

1. (18-17-01) The Graduate Fellowship Programs Participants Study, 70 FR 51348-51351 (August 30, 2005).

2. (18-17-02) Follow Up Evaluation of the GEAR UP Program, 70 FR 74792-74794 (December 16, 2005).

Electronic Access to This Document: The official version of this document is the document published in the Federal Register. Free Internet access to the official edition of the Federal Register and the Code of Federal Regulations is available via the Federal Digital System at: www.gpo.gov/fdsys. At this site you can view this document, as well as all other documents of this Department published in the Federal Register, in text or Adobe Portable Document Format (PDF). To use PDF you must have Adobe Acrobat Reader, which is available free at the site.

You may also access documents of the Department published in the Federal Register by using the article search feature at: www.federalregister.gov. Specifically, through the advanced search feature at this site, you can limit your search to documents published by the Department.

Dated: June 6, 2012.
Carmel Martin,
Assistant Secretary, Office of Planning, Evaluation and Policy Development.

For the reasons discussed in the preamble, the Assistant Secretary of the Office of Planning, Evaluation and Planning Development deletes the following systems of records:

System No. | System name
18-17-01 | The Graduate Fellowship Programs Participants Study, 70 FR 51348-51351 (August 30, 2005).
18-17-02 | Follow Up Evaluation of the GEAR UP Program, 70 FR 74792-74794 (December 16, 2005).

[FR Doc. 2012-14181 Filed 6-11-12; 8:45 am]

BILLING CODE 4000-01-P